DEPARTMENT OF THE TREASURY

Submission for OMB Review; Comment Request

February 2, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 12, 2001 to be assured of consideration.

Internal Revenue Service (IRS)

OMB Number: 1545-0073.

Form Number: IRS Form 1310.

Type of Review: Extension.

Title: Statement of Person Claiming Refund Due a Deceased Taxpayer.

Description: Form 1310 is used by a claimant to secure payment of a refund on behalf of a deceased taxpayer. The information enables IRS to send the refund to the correct person.

Respondents: Individuals or households.

Estimated Number of Respondents/Recordkeepers: 7,500.

Estimated Burden Hours Per Respondent/Recordkeeper:

Recordkeeping | 6 min.
Learning about the law or the form | 3 min.
Preparing the form | 15 min.
Copying, assembling, and sending the form to the IRS | 16 min.

Frequency of Response: On occasion.

Estimated Total Reporting/Recordkeeping Burden: 5,250 hours.

OMB Number: 1545-1459.

Form Number: IRS Form 8498.

Type of Review: Extension.

Title: Program Sponsor Agreement for Continuing Education for Enrolled Agents.

Description: This information relates to the approval of continuing professional education programs for the individuals enrolled to practice before the Internal Revenue Service (enrolled agents).

Respondents: Individuals or households, Business or other for-profit.

Estimated Number of Respondents: 500.

Estimated Burden Hours Per Respondent: 36 minutes.

Frequency of Response: Other (one-time filing).

Estimated Total Reporting Burden: 300 hours.

OMB Number: 1545-1565.

Notice Number: Notice 97-64.

Type of Review: Extension.

Title: Temporary Regulations To Be Issued Under Section (h) of the Internal Revenue Code (Applying Section 1(h) to Capital Gain Dividends of RICs and REITs).

Description: Notice 97-64 provides notice of forthcoming temporary regulations that will permit Regulated Investment Companies (RICs) and Real Estate Investment Trusts (REITs) to distribute multiple classes of capital gain dividends.

Respondents: Individuals or households, Business or other for-profit.

Estimated Number of Respondents: 1.

Estimated Burden Hours Per Respondent: 1 hour.

Frequency of Response: Other (once).

Estimated Total Reporting Burden: 1 hour.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Lois K. Holland,
Departmental Reports, Management Officer.

[FR Doc. 01-3266 Filed 2-7-01; 8:45 am]

BILLING CODE 4830-01-U